DEPARTMENT OF ENERGY

U.S. Energy Information Administration; Proposed Agency Information Collection

AGENCY: U.S. Energy Information Administration (EIA), Department of Energy.

ACTION: Agency Information Collection Activities: Proposed Collection; Notice and Request for Comments.

SUMMARY: The EIA invites public comment on the proposed collection of information, EIA-882T, “Generic Clearance for Questionnaire Testing, Evaluation, and Research” that EIA is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before May 14, 2012. If you anticipate difficulty in submitting comments within that period, contact the person listed in ADDRESSES as soon as possible.

ADDRESSES: Written comments may be sent to Richard Reeves, Energy Information Administration, 1000 Independence Ave. SW., Washington, DC 20585 or by fax at 202-586-5271 or by email at richard.reeves@eia.gov.

FOR FURTHER INFORMATION CONTACT: Requests for additional information or copies of the information collection instrument and instructions should be directed to Richard Reeves, Energy Information Administration, 1000 Independence Ave. SW., Washington DC 20585, phone: 202-586-5856, email: richard.reeves@eia.gov.

SUPPLEMENTARY INFORMATION: This information collection request contains:

(1) OMB No.: New;

(2) Information Collection Request Title: Generic Clearance for Questionnaire Testing, Evaluation, and Research;

(3) Type of Request: Proposed;

(4) Purpose: The U.S. Energy Information Administration (EIA) is planning to request a three-year approval from the Office of Management and Budget (OMB) to utilize qualitative and quantitative methodologies to pretest questionnaires and validate the quality of the data that is collected on EIA forms. This authority would allow EIA to conduct pretest surveys, pilot surveys, respondent debriefings, cognitive interviews, usability interviews, and focus groups. Through the use of these methodologies, EIA will improve the quality of data being collected, reduce or minimize respondent burden, increase agency efficiency, and improve responsiveness to the public. This authority would also allow EIA to improve data collection in order to meet the needs of EIA's customers while also staying current in the evolving nature of the energy industries.

The specific methods proposed for the coverage by this clearance are described below. Also outlined is the legal authority for these voluntary information gathering activities.

The methods proposed are the following:

Field Testing. Field testing surveys conducted under this clearance will generally be methodological studies of 500 cases or less. The samples may not be statistically representative because it will be designed to clarify particular issues rather than to be representative of the universe. Collection may be on the basis of convenience, e.g., limited to specific geographic locations, but the selection of sample cases will not be completely arbitrary in any instance. The sample designs will be determined at the time of development and will vary based on the content of the information collection or survey being tested.

Pilot Surveys. Pilot surveys conducted under this clearance will generally be methodological studies of 500 cases or less, but will always employ statistically representative samples. The pilot surveys will replicate all components of the methodological design, sampling procedures (where possible) and questionnaires of the full scale survey. Pilots will normally be utilized when EIA undertakes a complete redesign of a particular data collection methodology or when EIA undertakes data collection in new areas, such as greenhouse gases or alternative fueled motor vehicle transportation system studies.

Respondent Debriefings. Respondent debriefings conducted under this clearance will generally be methodological studies of 500 cases or less, involving either purposive or statistically representative samples. The debriefing form is administered after a respondent completes a questionnaire either in paper form, electronically, or through in-person interviews. The debriefings contain questions that probe to determine how respondents interpret the questions and whether they have problems in completing the survey/questionnaire. Respondent debriefings also are useful in determining potential issues with data quality and in determining a more accurate respondent burden measure. This structured approach to debriefing enables both quantitative and qualitative analyses of data when administered to a statistically representative sample and allows EIA to improve its understanding of variance for the items in the questionnaire.

Cognitive Interviews. Cognitive interviews are typically one-on-one interviews in which the respondent is usually asked to “think aloud” or is asked “retrospective questions” as he or she answers survey questions, reads survey materials, or completes other activities as part of a survey process. A number of different techniques may be involved, including asking respondents to paraphrase questions, asking respondents probing questions to determine how they come up with their answers, and so on. The objective is to identify problems of ambiguity or misunderstanding, or other difficulties respondents have answering questions, and reduce measurement error in a survey.

Usability Interviews. Usability interviews are similar to cognitive interviews in which a respondent is typically asked to “think aloud” or asked “retrospective questions” as he or she reviews an electronic questionnaire, Web site and/or associated materials. The object of a usability interview is to make sure that electronic questionnaires, Web sites and other associated materials are user-friendly, allowing respondents to easily and intuitively navigate the electronic item and find the information that they seek.

Focus Groups. Focus groups involve group sessions guided by a moderator who follows a topic guide containing questions or topics focused on a particular issue, rather than adhering to a standardized questionnaire. Focus groups are useful for identifying and exploring issues with populations of interest, e.g., from a specific group of stakeholders.

(5) Annual Estimated Number of Respondents: 1,000;

(6) Annual Estimated Number of Total Responses: 1,000;

(7) Annual Estimated Number of Burden Hours: 1,000;

(8) Annual Estimated Reporting and Recordkeeping Cost Burden: There are no costs associated with these survey methods other than the burden hours.

Statutory Authority: Section 13(b) of the Federal Energy Administration Act of 1974, Pub. L. 93-275, codified at 15 U.S.C. 772(b).

Issued in Washington, DC, on March 6, 2012.
Stephanie Brown,
Director, Office of Survey Development and Statistical Integration, U. S. Energy Information Administration.

[FR Doc. 2012-6154 Filed 3-13-12; 8:45 am]

BILLING CODE 6450-01-P